ENVIRONMENTAL PROTECTION AGENCY

40 CFR Part 62

[AZ,CA,HI,NV-066-MSWb; FRL-7123-1]

Approval and Promulgation of State Plans for Designated Facilities and Pollutants: Negative Declarations; Municipal Waste Combustion; Arizona; California; Hawaii; Nevada

AGENCY: Environmental Protection Agency (EPA).

ACTION: Proposed rule.

SUMMARY: EPA is proposing to approve the small Municipal Waste Combustion (MWC) units section 111(d) plan negative declarations submitted by the States of Arizona, California, Hawaii, and Nevada. These negative declarations certify that small MWC units subject to the requirements of sections 111(d) and 129 of the Clean Air Act do not exist in these States.

In the Rules section of this Federal Register, EPA is approving each State's negative declaration as a direct final rule without prior proposal because the Agency views this as noncontroversial and anticipates no relevant adverse comments to this action. A detailed rationale for the approval is set forth in the direct final rule. If no relevant adverse comments are received in response to this action, no further activity is contemplated in relation to this action. If EPA receives relevant adverse comments, the direct final rule will be withdrawn and all public comments received will be addressed in a subsequent final rulemaking based on this proposed action. EPA will not institute a second comment period on this action. Any parties interested in commenting on this action should do so at this time.

DATES: Comments must be received in writing by January 28, 2002.

ADDRESSES: Written comments should be addressed to Andrew Steckel, U.S. Environmental Protection Agency, Region IX, Rulemaking Office (AIR-4), Air Division, 75 Hawthorne Street, San Francisco, CA 94105-3901.

Copies of the documents relevant to this proposed rule are available for public inspection at EPA's Region IX office during normal business hours.

FOR FURTHER INFORMATION CONTACT: Mae Wang, U.S. Environmental Protection Agency, Region IX, 75 Hawthorne Street (AIR-4), San Francisco, CA 94105-3901, Telephone: (415) 947-4124.

SUPPLEMENTARY INFORMATION: See the information provided in the direct final action which is located in the Rules section of this Federal Register.

Authority: 42 U.S.C. 7401 et seq.

Dated: December 6, 2001.
Wayne Nastri,
Regional Administrator, Region IX.

[FR Doc. 01-31944 Filed 12-27-01; 8:45 am]

BILLING CODE 6560-50-P